DEPARTMENT OF COMMERCE

International Trade Administration

[A-580-889]

Dioctyl Terephthalate From the Republic of Korea: Rescission of Antidumping Administrative Review; 2021-2022

AGENCY: Enforcement and Compliance, International Trade Administration, Department of Commerce.

SUMMARY: The U.S. Department of Commerce (Commerce) is rescinding the administrative review of the antidumping duty order on dioctyl terephthalate (DOTP) from the Republic of Korea (Korea), covering the period of review (POR) August 1, 2021, through July 31, 2022.

DATES: Applicable April 24, 2023.

FOR FURTHER INFORMATION CONTACT: Laurel LaCivita, AD/CVD Operations, Office III, Enforcement and Compliance, International Trade Administration, U.S. Department of Commerce, 1401 Constitution Avenue NW, Washington, DC 20230; telephone: (202) 482-4243.

SUPPLEMENTARY INFORMATION:

Background

On August 2, 2022, Commerce published in the Federal Register a notice of opportunity to request an administrative review of the antidumping duty order on DOTP from Korea, covering the POR.¹ On August 31, 2022, Eastman Chemical Company (Eastman, a domestic producer) timely requested that Commerce conduct an administrative review.²

¹ See Antidumping or Countervailing Duty Order, Finding, or Suspended Investigation; Opportunity to Request Administrative Review and Join Annual Inquiry Service List, 87 FR 47187 (August 2, 2022).

² See Eastman's Letter, “Dioctyl Terephthalate (DOTP) from Korea: Administrative Review Request,” dated August 31, 2022.

On October 11, 2022, Commerce published in the Federal Register a notice of initiation of an administrative review with respect to Aekyung Petrochemical (AKP), Hanwha Chemical Corporation (Hanwha Chemical), and LG Chem, Ltd. (LG Chem) in accordance with section 751(a) of the Tariff Act of 1930, as amended (the Act).³ On November 10, 2022, Aekyung Chemical Co., Ltd. (AKC) filed a letter explaining that AKP, one of the three companies subject to this review, changed its business name to AKC, effective November 1, 2021.⁴ As a result, AKC explained that the operations related to DOTP during the review period by the legal entity formerly known as AKP were conducted under the name of AKP until November 1, 2021, and then under the name of AKC after that date.⁵ In addition, AKC certified that neither AKP nor AKC had exports, sales, or entries of DOTP into the United States during the POR.⁶

³ See Initiation of Antidumping and Countervailing Duty Administrative Reviews, 87 FR 61278 (October 11, 2022).

⁴ See AKP's Letter, “Administrative Review of the Antidumping Order on Dioctyl Terephthalate from Korea for the 2021-22 Review Period—No Shipments Letter,” dated November 10, 2022 (AKP's No Shipments Letter).

⁵ Id.

⁶ Id. at 2. We clarify that this review was initiated on and covers AKP. AKC has not requested that we conduct a successor-in-interest analysis in this review and Commerce has not considered whether AKC is the successor-in-interest to AKP.

On November 8, 2022, we requested from U.S. Customs and Border Protection (CBP) a data file of entries of subject merchandise imported into the United States during the POR for those companies for which a review was initiated. On November 16, 2022, we received the CBP entry data ⁷ that demonstrated that there were no entries during the POR from companies covered by the review (i.e., AKP, Hanwha Chemical, and LG Chem).⁸ Consequently, we stated that we intended to rescind the review and solicited comments regarding the CBP data, respondent selection, and our intent to rescind the review.⁹ None of the parties to the proceeding provided comments regarding the CBP data, respondent selection, or the rescission of the review.

⁷ See Memorandum, “Antidumping Duty Administrative Review of Dioctyl Terephthalate from the Republic of Korea: Release of Customs Data from U.S. Customs and Border Protection,” dated November 16, 2022 (Customs Data Memorandum).

⁸ Id.

⁹ Id.

On March 7, 2023, we issued a memorandum to clarify our intent to rescind the review in full.¹⁰ We reiterated that the record of this review demonstrates that none of the companies upon which we initiated the review (i.e., AKP, Hanwha Chemical, and LG Chem) had entries of the subject merchandise during the instant POR.¹¹ In addition, we noted that AKP had stated for the record that it made no entries during the POR.¹² We explained further that because the CBP data demonstrates that there were no suspended entries for the companies under review during the POR, and, none of the parties to the proceeding have provided information or argument to the contrary, we confirmed that it was our intention to rescind this review.¹³ We provided all interested parties an additional opportunity to comment on Commerce's intent to rescind the review.¹⁴ No party to the proceeding provided comments on Commerce's intent to rescind the review.

¹⁰ See Memorandum, “Antidumping Duty Administrative Review of Dioctyl Terephthalate from the Republic of Korea: Statement of Intent to Rescind this Administrative Review,” dated March 7, 2023.

¹¹ Id. (citing Customs Data Memorandum).

¹² Id. (citing AKP's No Shipments Letter).

¹³ Id. at 2.

¹⁴ Id.

Rescission of Review

Pursuant to 19 CFR 351.213(d)(3), it is Commerce's practice to rescind an administrative review of an antidumping duty order where it concludes that there were no suspended entries of subject merchandise during the POR.¹⁵ Normally, upon completion of an administrative review, the suspended entries are liquidated at the antidumping duty assessment rate for the review period.¹⁶ Therefore, for an administrative review to be conducted, there must be a reviewable, suspended entry that Commerce can instruct CBP to liquidate at the calculated antidumping duty assessment rate for the review period.¹⁷ As noted above, there were no suspended entries of subject merchandise from AKP, Hanwha Chemical, or LG Chem during the POR. Accordingly, in the absence of suspended entries of subject merchandise during the POR, we are rescinding this administrative review for AKP, Hanwha Chemical, and LG Chem in accordance with 19 CFR 351.213(d)(3).

¹⁵ See, e.g., Certain Carbon and Alloy Steel Cut-to Length Plate from the Federal Republic of Germany: Recission of Antidumping Administrative Review; 2020-2021, 88 FR 4157 (January 24, 2023).

¹⁶ See 19 CFR 351.212(b)(1).

¹⁷ See, e.g., Shanghai Sunbeauty Trading Co. v. United States, 380 F. Supp. 3d 1328, 1335-36 (CIT 2019), at 12 (referring to section 751(a) of the Act, the CIT held: “While the statute does not explicitly require that an entry be suspended as a prerequisite for establishing entitlement to a review, it does explicitly state the determined rate will be used as the liquidation rate for the reviewed entries. This result can only obtain if the liquidation of entries has been suspended. . . . ”; see also Certain Frozen Fish Fillets from the Socialist Republic of Vietnam: Final Results of Antidumping Duty Administrative Review and Final Determination of No Shipments; 2018-2019, 86 FR 36102, and accompanying Issues and Decision Memorandum at Comment 4; and Solid Fertilizer Grade Ammonium Nitrate From the Russian Federation: Notice of Rescission of Antidumping Duty Administrative Review, 77 FR 65532 (October 29, 2012) (noting that “for an administrative review to be conducted, there must be a reviewable, suspended entry to be liquidated at the newly calculated assessment rate”).

Assessment

Commerce will instruct CBP to assess antidumping duties on all appropriate entries. Because Commerce is rescinding this review in its entirety, the entries to which this administrative review pertained shall be assessed at rates equal to the cash deposit of estimated antidumping duties required at the time of entry, or withdrawal from warehouse, for consumption, in accordance with 19 CFR 351.212(c)(1)(i). Commerce intends to issue assessment instructions to CBP no earlier than 35 days after the date of publication of this rescission notice in the Federal Register.

Cash Deposit Requirements

As Commerce has proceeded to a final rescission of this administrative review, no cash deposit rates will change. Accordingly, the current cash deposit requirements shall remain in effect until further notice.

Administrative Protective Order

This notice serves as a final reminder to parties subject to an administrative protective order (APO) of their responsibility concerning the return or destruction of proprietary information disclosed under APO in accordance with 19 CFR 351.305, which continues to govern business proprietary information in this segment of the proceeding. Timely written notification of the return or destruction of the APO materials or conversion to judicial protective order is hereby requested. Failure to comply with regulations and terms of an APO is a violation, which is subject to sanction.

Notification to Interested Parties

This notice is issued and published in accordance with sections 751(a)(1) and 777(i)(l) of the Act, and 19 CFR 351.213(d)(4).

Dated: April 17, 2023.
James Maeder,
Deputy Assistant Secretary for Antidumping and Countervailing Duty Operations.

[FR Doc. 2023-08538 Filed 4-21-23; 8:45 am]

BILLING CODE 3510-DS-P